DEPARTMENT OF THE INTERIOR

Geological Survey

[GX17EE000101000; OMB Control Number 1028-0110]

Agency Information Collection Activities; International Organization for Standardization (ISO) Geospatial Metadata Editors Registry

AGENCY: U.S. Geological Survey (USGS), Interior.

ACTION: Notice.

SUMMARY: In accordance with the Paperwork Reduction Act of 1995, the USGS is proposing to renew an information collection.

DATES: To ensure that your comments are considered, we must receive them on or before January 22, 2018.

ADDRESSES: You may submit comments on this information collection to the Information Collection Clearance Officer, U.S. Geological Survey, 12201 Sunrise Valley Drive MS 159, Reston, VA 20192 (mail); or gs-info_collections@usgs.gov (email). Please reference `Information Collection 1028-0110, ISO Geospatial Metadata Editors Registry' in the subject line of your comments.

FOR FURTHER INFORMATION CONTACT: Jennifer Carlino, Federal Geographic Data Committee Office of the Secretariat, USGS, P.O. Box 25046, Mail Stop 302, Denver Federal Center, Denver, CO 80225 (mail); 303-202-4260 (phone); or jcarlino@usgs.gov (email). You may also find information about this IC at www.reginfo.gov.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed IC that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this IC. Before including your address, phone number, email address, or other personal identifying information in your comment, you should be aware that your entire comment—including your personal identifying information—may be made publicly available at any time. While you may ask us in your comment to withhold your personal identifying information from public review, we cannot guarantee that we will be able to do so.

Abstract: As National Spatial Data Infrastructure (NSDI) stakeholders move forward with the implementation of the International Organization for Standardization's (ISO) 191** series of geospatial metadata standards, there is increasing demand for information about applications/editors that can be used to create ISO compliant metadata records. The USGS, through the Federal Geographic Data Committee (FGDC) Office of the Secretariat (www.fgdc.gov), proposes development of an online registration system for developers of ISO Geospatial Metadata Editors to voluntarily describe their metadata tools. Developers will be asked to include information such as features of the editor, its functionality, supported standards, and point of contact information through a login-based, online form. The FGDC Metadata Working Group (MWG) (https://www.fgdc.gov/organization/working-groups-subcommittees/mwg/index_html), whose membership represents Federal, State, Local and Tribal governments and the Private Sector, has requested the development of the registry as a useful tool to learn about available ISO Geospatial Metadata Editors. Because the information about the editors may be of interest or utility to others implementing ISO geospatial metadata standards, the FGDC will make the information collected available on the Web in the form of a simple registry-type database. FGDC MWG members as well as non FGDC MWG members including geospatial metadata implementers from private sector, academia, all forms of government, and the general public, will have read-only access to the editor information published in the registry.

Title: ISO Geospatial Metadata Editors Registry.

OMB Control Number: 1028-0110.

Form Number: Not applicable.

Type of Request: Renewal of existing information collection.

Affected Public: Federal, State, Local and Tribal governments, Private Sector, and others involved in the development of ISO geospatial metadata.

Respondent's Obligation: None. Participation is voluntary.

Frequency of Collection: Following its initial collection from editor developers, the information will be reviewed at least annually. As part of the annual review, all editor developers listed in the registry will be contacted and requested to update their information, if needed, via the login-based online form. Additionally, all NSDI stakeholders will be reminded via Web posting at the FGDC Web site (www.fgdc.gov) and community-of-practice networking that new editors may be added to the registry.

Estimated Total Number of Annual Responses: Approximately 5.

Estimated Time per Response: We estimate that it will take one hour per person to document a single editor for inclusion in the registry. In future years, review of editor information to ensure currency or identification of new editors is expected to require de minimis effort.

Estimated Annual Burden Hours: 5 hours.

Estimated Reporting and Recordkeeping “Non-Hour Cost” Burden: There are no “non-hour cost” burdens associated with this IC.

An agency may not conduct or sponsor and a person is not required to respond to a collection of information unless it displays a currently valid OMB control number.

The authorities for this action are the Paperwork Reduction Act of 1995 (44 U.S.C. 3501, et seq.)

Kenneth M. Shaffer,
Deputy Director, Federal Geographic Data Committee Office of the Secretariat, U.S. Geological Survey.

[FR Doc. 2017-25178 Filed 11-20-17; 8:45 am]

BILLING CODE 4338-11-P